DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Native American Rehabilitation Association of the Northwest, Inc. (NARA-NW) Native Youth Suicide Prevention Program (NYSP) funded through the Garrett Lee Smith State/Tribal Youth Suicide Prevention and Early Intervention Program—New.

The Substance Abuse and Mental Health Services Administration's (SAMHSA), Center for Mental Health Services (CMHS) is conducting an evaluation of program activities being conducted for a 2005-funded Garrett Lee Smith (GLS) State/Tribal Youth Suicide Prevention and Early Intervention Program grantee. This evaluation effort is planned for the Native Youth Suicide Prevention Program of the Native American Rehabilitation Association of the Northwest, Inc. (NARA-NW) in Oregon, and builds upon their existing local evaluation that is being implemented and funded through the GLS grant program. The data collected through this evaluation will address the process and impact of program activities for Tribal youth in Oregon. The purpose of the proposed evaluation is to evaluate intermediate- and long-term outcomes associated with suicide prevention program activities being implemented with nine Tribes that NARA-NW serves. The following describes the specific data collection activities and the data collection instruments to be used, followed by a summary table of the number of respondents and the respondent burden:

• Native American Rehabilitation Association of the Northwest, Inc. (NARA-NW) Oregon Native Youth Survey. This component of the evaluation will assess suicide-related risk and protective factors at the individual, family, school, and community levels. The survey will be administered to a convenience sample of 300 youth in targeted communities. Survey participants will be drawn from the estimated 840 eligible youth members in these nine Tribal communities. The exact number of youth recruited from any given Tribe will depend on the size of the youth population, the success of recruitment activities, and the availability of parents/guardians from whom informed consent can be obtained. The survey includes questions related to risk and protective factors at the individual, family, school, and community levels. Risk factors measured by the survey include alienation, rebelliousness, early and persistent antisocial behavior, drug and alcohol abuse in the home, criminal and violent behavior, poverty, neighborhood cohesion, and community drug use, violence and crime. The survey questions and format were derived primarily from State and Federal surveys currently in use with this population. Additional questions on protective factors were developed by NARA-NW evaluators. The survey includes 110 multiple choice, Likert scale, and open-ended questions which will take approximately 45 minutes to complete.

• Native Youth Suicide Prevention Program Focus Group Moderators Guide. This component will assess the degree to which prevention activities sponsored by Tribes' grant programs had an impact on various risk and protective factors and will help researchers more fully understand the community context in which the Oregon Native Youth Survey is administered. Questions address the degree to which youth feel supported by their community and build on the list of risk and protective factors covered in the survey. One focus group per participating Tribe (for a total of up to nine focus groups) will be conducted in FY 2008. Youth, ages 12-19, who participated in one of the prevention activities undertaken by the Native Youth Suicide Prevention Program in their tribal community, will be recruited for each focus group. Recruitment will be conducted in collaboration with the agency/community group that sponsored the prevention activity. A group of up to 12 participants per participating Tribe will be randomly selected from the pool of eligible youth participants with the informed consent of their parents. The total number of focus group participants will not exceed 72. Groups will last approximately 90 minutes.

Annualized Burden: Respondents, Responses and Hours
Measure name | Number of respondents | Number of responses/ respondent | Hours/ response | Response burden
Survey | 300 | 1 | 0.75 | 225
Focus group | 72 | 1 | 1.5 | 108
Total | 372 |  |  | 333

Send comments to Summer King, SAMHSA Reports Clearance Officer, Room 7-1044, One Choke Cherry Road, Rockville, MD 20857 and e-mail her a copy at summer.king@samhsa.hhs.gov. Written comments should be received within 60 days of this notice.

Dated: August 11, 2008.
Elaine Parry,
Acting Director, Office of Program Services.

[FR Doc. E8-19060 Filed 8-15-08; 8:45 am]

BILLING CODE 4162-20-P